DEPARTMENT OF TRANSPORTATION

Coast Guard

33 CFR Part 165

[COTP Corpus Christi-02-001]

RIN 2115-AA97

Security Zone; Corpus Christi Inner Harbor, Corpus Christi, TX

AGENCY: Coast Guard, DOT.

ACTION: Temporary final rule.

SUMMARY: The Coast Guard is extending the effective period of the Corpus Christi Inner Harbor security zone published March 18, 2002. This change will extend the effective period for the established security zone until October 15, 2002, allowing adequate time for a proposed permanent rule to be developed through informal rulemaking. This temporary rule prohibits entry of recreational vessels, passenger vessels, or commercial fishing vessels into this zone unless specifically authorized by the Captain of the Port Corpus Christi.

DATES: Section 165.T08-016, added at 67 FR 11922, March 18, 2002, effective February 20, 2002, until June 15, 2002 is extended and will remain in effect through 8 a.m. October 15, 2002.

ADDRESSES: Documents as indicated in this preamble are available for inspection or copying at U.S. Coast Guard Marine Safety Office Corpus Christi, 555 N. Carancahua Street, Suite 500, Corpus Christi, Texas, 78478 between 9 a.m. and 3 p.m., Monday through Friday, except Federal holidays.

FOR FURTHER INFORMATION CONTACT: Lieutenant Junior Grade (LTJG) T. J. Hopkins, Chief, Waterways Section, Coast Guard Captain of the Port Corpus Christi, at (361) 888-3162.

SUPPLEMENTARY INFORMATION:

Regulatory Information

On March 18, 2002, we published a temporary final rule entitled “Security Zone; Corpus Christi Inner Harbor, Corpus Christi, TX” in the Federal Register (67 FR 11920). The effective period for this rule was from February 20, 2002 until June 15, 2002.

We did not publish a notice of proposed rulemaking (NPRM) for this regulation. Under 5 U.S.C. 553 (b) (B), the Coast Guard finds that good cause exists for not publishing an NPRM. The original temporary final rule was urgently required to respond to potential security risks associated with recreational, passenger, or commercial fishing vessels entering the Corpus Christi Inner Harbor. It was anticipated that we would assess the security environment at the end of the effective period to determine whether continuing security measures were required. We have determined that the need for a continued security zone regulation exists and we published an NPRM on May 10, 2002 (67 FR 31750), which included a proposal to make the existing Corpus Christi Inner Harbor Security Zone permanent. The Coast Guard will utilize the extended effective period of this temporary final rule to continue to engage in notice and comment rulemaking for the proposed permanent rule.

Under 5 U.S.C. 553 (d) (3), good cause exists for making this temporary rule effective less than 30 days after publication in the Federal Register. This extension preserves the status quo within the Port of Corpus Christi while permanent rules are developed. There is no indication that the present temporary final rule has been burdensome on the public. Delaying the effective date of the rule would be contrary to public interest since action is needed to continue to respond to existing security risks.

Background and Purpose

On September 11, 2001, both towers of the World Trade Center and the Pentagon were attacked by terrorists. National security and intelligence officials have warned that future terrorist attacks against civilian targets may be anticipated. In response to these terrorist acts, heightened awareness and security of our ports and harbors is necessary therefore, the Captain of the Port, Corpus Christi is extending the temporary security zone within the Corpus Christi Inner Harbor. The Port of Corpus Christi is the fourth largest petro-chemical port within the United States. A large number of these petro-chemical waterfront facilities are located within the Inner Harbor that serves as a major industrial channel. These petro-chemical waterfront facilities conduct business with both United States and foreign deep draft vessels. The Port of Corpus Christi is also designated as an alternate military strategic load-out port with docks and facilities located within the Inner Harbor. These docks and facilities are vital to the national security interest of the United States.

The Inner Harbor channel is approximately 8 miles long and 300-800 feet wide, and has a controlling depth of 45 feet. Restricting the access of recreational, passenger and commercial fishing vessels reduces potential methods of attack on a vessel or waterfront facility within the zone. This security zone is designed to limit the access of vessels that do not have business to conduct with facilities or structures within the Corpus Christi Inner Harbor. Entry of recreational vessels, passenger vessels, or commercial fishing vessels into this zone is prohibited unless specifically authorized by the Captain of the Port Corpus Christi.

The temporary security zone was to expire on June 15, 2002. In order to provide continuous protection while a permanent zone is being promulgated through notice and comment rulemaking, the Coast Guard is extending the effective date of this zone until October 15, 2002.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full Regulatory Evaluation under paragraph 10(e) of the regulatory policies and procedures of DOT is unnecessary. Recreational vessels, passenger vessels, and commercial fishing vessels do not frequent the Corpus Christi Inner Harbor. The Inner Harbor is an industrial area primarily used for bulk material transfers. Should a recreational vessel, passenger vessel, or commercial fishing vessel need to enter the Inner Harbor to conduct business with a small entity, there is no cost and little burden associated with obtaining permission from the Captain of the Port prior to entry.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the reasons enumerated under the Regulatory Evaluation above. If you are a small business entity and are significantly affected by this regulation please contact LTJG T.J. Hopkins, Chief Waterways Section, Coast Guard Captain of the Port Corpus Christi at (361) 888-3162.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effect

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(g), of Commandant Instruction M16475.1D, this rule is categorically excluded from further environmental documentation. A “Categorical Exclusion Determination” is available for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. In temporary § 165.T08-016, revise paragraph (b) to read as follows:

§ 165.T08-016 Security Zone; Corpus Christi Inner Harbor, Corpus Christi, Texas.

* * * * *

(b) Effective dates. This section is effective from 8 a.m. on February 20, 2002 through 8 a.m. on October 15, 2002.

* * * * *

Dated: May 29, 2002.
M.E. Maes,
Commander, Coast Guard, Acting, Captain of the Port Corpus Christi.

[FR Doc. 02-14357 Filed 6-6-02; 8:45 am]

BILLING CODE 4910-15-P